DEPARTMENT OF ENERGY

Federal Energy Regulatory Commission

Notice of Scoping Meetings and Site Visits and Soliciting Scoping Comments

August 21, 2001.

Take notice that the following hydroelectric application has been filed with the Commission and is available for public inspection:

a. Type of Application: Original Minor License.

b. Project No.: P-11797-000.

c. Date Filed: July 29, 1999.

d. Applicant: Grande Pointe Power Corporation.

e. Name of Project: Three Rivers Hydroelectric Project.

f. Location: On the St. Joseph River in the City of Three Rivers, St. Joseph County, Michigan. The project does not utilize federal lands.

g. File Pursuant to: Federal Power Act 16 U.S.C. 791 (a)-825(r).

h. Applicant Contact: Mr. Monroe E. Learn, Grande Pointe Power Corporation, 503 West Michigan Avenue, Three Rivers, MI 54601, (616) 273-8828.

i. FERC Contact: Mr. Charles T. Raabe, E-mail Charles.Raabe@FERC.FED.US or telephone (202) 219-2811.

j. Deadline for filing scoping comments: 60 days from the issuance of this Notice.

All documents (original and eight copies) should be filed with: David P. Boergers, Secretary, Federal Energy Regulatory Commission, 888 First Street, NE, Washington, DC 20426. Copies of this filing are on file with the Commission and are available for public inspection. Comments, protests and interventions may be filed electronically via the Internet in lieu of paper. See, 18 CFR 385.2001(a)(1)(iii) and the instructions on the Commission's web site under the “e-Filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of the Project: The project consists of the following existing facilities: (1) a right earthen embankment 750 feet-long and a left earthen embankment 200 feet-long, separated by a 283 foot-long gated spillway section with a crest elevation of 792.40 feet NGVD; (2) a 601-acre reservoir with a normal water surface elevation of 797.0 feet NGVD; (3) a powerhouse containing 3 vertical Francis turbines each connected to a generator unit for a total installed capacity of 900 kW; and (4) appurtenant facilities. The average annual energy generation is 3,844,920 kWh. Power generated by the project is sold to the city of Sturgis.

m. Location of the Application: A copy of the application is available for inspection and reproduction at the Commission's Public Reference Room, located at 888 First Street, NE, Room 2A, Washington, DC 20426, or by calling (202) 208-1371. This filing may be viewed on the web at http://www.ferc.fed.us/online/rims.htm (call 202-208-2222 for assistance). A copy is also available for inspection and reproduction at the address in item h above.

n. Scoping Process: The Commission intends to prepare an Environmental Assessment (EA) for the proposed licensing of the Three Rivers Project (FERC No. 11797-000) in accordance with the National environmental Policy Act. The EA will consider both site-specific and cumulative environmental impacts and reasonable alternatives to the proposed actions.

Scoping Meetings

The Commission will hold two scoping meetings, one in the evening and one in the daytime, to help us identify the scope of issues to be addressed in the EA.

The evening meeting will focus on public concerns, while the daytime scoping meeting will focus on resource agency concerns. All interested agencies, nongovernmental organizations (NGOs), Native American tribes, and individuals to attend either of the meetings and to assist the staff in identifying the scope of environmental issues to be analyzed in the EA. The times and locations of these meetings are as follows:

Evening Scoping Meeting

Tuesday, September 11, 2001, 7 to 9 p.m.

Three Rivers Community Library, St. Joseph Room, 103 South Douglas Avenue, Three Rivers, MI 49093

Morning Scoping Meeting

Thursday, September 13, 2001, 9 to 11 a.m.

2651 Coolidge Road, East Lansing, MI 48823

To help focus discussions, we will distribute to parties on the Commission's mailing list a Scoping Document (SD1) outlining the subject areas to be addressed in the EA. Copies of the SD1 will also be available at the scoping meetings.

Objectives

At the scoping meetings, the staff will: (1) Summarize the environmental issues that the Commission staff tentatively has identified for analysis in the EA; (2) take statements from experts and the public on issues that should be analyzed in the EA, including viewpoints in opposition to, or in support of, those issues identified by the Commission staff; (3) identify those issues that require a detailed analysis, as well as those issues that do not require a detailed analysis; and (4) solicit all available information, especially quantifiable data, on the resources at issue.

The meetings will be recorded by a stenographer and will become part of the formal record of the Commission's proceeding on the project. Individuals presenting statements at the meeting will be asked to sign in before the meeting starts and to identify themselves clearly for the record.

Site Visit

The applicant and the Commission staff will conduct a project site visit on the morning of September 12th, 2001. We will meet at 8:30 a.m. at the Grande Pointe Power Corporation (GPPC) office at 503 West Michigan Avenue in Three Rivers, and will travel by foot to the project facilities. Those who wish to attend the site visit should contact Mr. Monroe E. Learn (GPPC) no later than Monday September 10, 2001 at (616) 273-8828.

Linwood A. Watson, Jr.,
Acting Secretary.

[FR Doc. 01-21552 Filed 8-24-01; 8:45 am]

BILLING CODE 6717-01-P